DEPARTMENT OF THE INTERIOR

National Park Service

Notice of Inventory Completion: University of Idaho, Alfred W. Bowers Laboratory of Anthropology, Moscow, ID

AGENCY: National Park Service, Interior.

ACTION: Notice.

Notice is here given in accordance with the Native American Graves Protection and Repatriation Act (NAGPRA), 25 U.S.C. 3003, of the completion of an inventory of human remains and associated funerary objects in the possession and control of the University of Idaho, Alfred W. Bowers Laboratory of Anthropology, Moscow, ID. The human remains and associated funerary objects were removed from Park and Treasure Counties, MT.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by University of Idaho, Alfred W. Bowers Laboratory of Anthropology professional staff in consultation with representatives of the Crow Tribe of Montana.

On July 30, 1961, human remains representing a minimum of three individuals were removed along a cliff ledge on the property of Douglas and James Mouat (24TE0401), also known as Mouat Cliff Burial site, Treasure County, MT, during excavations by the Billings Archaeological Society. Prior to the excavation by the Billings Archaeological Society, the Mouat family discovered the burials and contacted the Society to document and excavate them. The human remains were cataloged by the Billings Archaeological Society. The human remains were then transferred to the University of Idaho, Alfred W. Bowers Laboratory of Anthropology for further inventory. No known individuals were identified. The 558 associated funerary objects are 220 beads, 26 lots of beads, 7 clothing items, 47 pieces of cloth, 12 pieces of leather, 5 pipes, 2 bows, 2 modified sticks, 1 bottle, 1 toy, 11 buttons, 26 bracelets, 15 pieces of ornamental metal, 134 pieces of miscellaneous metal, 13 non-human osteological elements, 19 mats of hair, 2 pieces of shell, 2 lots of feathers, 1 tobacco leaf, 2 minerals, 1 lithic artifact, and 9 ecofacts.

The inventory of the associated funerary items and human remains was conducted by the University of Idaho by cross-matching existing documents, materials, and human remains. Historic, ethnographic, and legal documents were consulted to determine the cultural affiliation of this collection. Based on this information, the officials of the University of Idaho, Laboratory of Anthropology reasonably believe that the human remains are culturally affiliated to the Crow Tribe of Montana.

Before April 1968, human remains representing a minimum of one individual were removed from the Bullis Creek Burial (24PA0503), Park County, MT, during excavations by Larry Lahren. No known individual was identified. The 43 associated funerary objects are 8 lots of beads, 14 non-human osteological elements, 2 mats of hair, 4 bracelets, 1 miscellaneous piece of metal, 3 pieces of cloth, 2 clothing items, 2 projectile points, 3 pieces of leather, and 4 ecofacts.

Sometime between 1985 and 1990, the Museum of the Rockies, Bozeman, MT, sent the human remains and associated funerary objects to the University of Idaho. There is little known about the Bullis Creek collection before it came into the possession and control of the University of Idaho. What is known is that the site was documented by Mr. Lahren as a primary “neo-Indian” burial on property owned by the Brawner/Bullis families. In addition, the Museum of the Rockies had determined that the human remains were Crow, presumably by the location of the interment, clothing and beadwork style, and the other associated funerary objects.

Historic, ethnographic, and legal documents affirmed the Museum of the Rockies' cultural affiliation of this reservation period collection through the cultural continuity exhibited in patterns of residence and strongly-represented painted motifs of the beadwork. Based on this information, the officials of the University of Idaho, Laboratory of Anthropology reasonably believe that the human remains are culturally affiliated to the Crow Tribe of Montana.

Officials of the University of Idaho, Alfred W. Bowers Laboratory of Anthropology have determined that, pursuant to 25 U.S.C. 3001 (9-10), the human remains described above represent the physical remains of four individuals of Native American ancestry. Officials of the University of Idaho, Alfred W. Bowers Laboratory of Anthropology also have determined that, pursuant to 25 U.S.C. 3001 (3)(A), the 601 objects described above are reasonably believed to have been placed with or near individual human remains at the time of death or later as part of the death rite or ceremony. Lastly, officials of the University of Idaho, Alfred W. Bowers Laboratory of Anthropology have determined that, pursuant to 25 U.S.C. 3001 (2), there is a relationship of shared group identity that can be reasonably traced between the Native American human remains and associated funerary objects and the Crow Tribe of Montana.

Representatives of any other Indian tribe that believes itself to be culturally affiliated with the human remains and associated funerary objects should contact Leah K. Evans-Janke, Collections Manager, University of Idaho, Alfred W. Bowers Laboratory of Anthropology, Phinney Hall 101, Moscow, ID 83844-1111, telephone (208) 885-3733, before May 4, 2009. Repatriation of the human remains and associated funerary objects to the Crow Tribe of Montana may proceed after that date if no additional claimants come forward.

The University of Idaho, Alfred W. Bowers Laboratory of Anthropology is responsible for notifying the Crow Tribe of Montana that this notice has been published.

Dated: March 25, 2009.
Sherry Hutt,
Manager, National NAGPRA Program.

[FR Doc. E9-7407 Filed 4-1-09; 8:45 am]

BILLING CODE 4312-50-S